SMALL BUSINESS ADMINISTRATION

[Disaster Declaration #10819 and #10820]

Georgia Disaster Number GA-00008

AGENCY: U.S. Small Business Administration.

ACTION: Amendment 1.

SUMMARY: This is an amendment of the Presidential declaration of a major disaster for the State of Georgia (FEMA-1686-DR), dated 3/3/2007.

Incident: Severe Storms and Tornadoes.

Incident Period: 3/1/2007 through 3/2/2007.

DATES: Effective Date: 3/6/2007.

Physical Loan Application Deadline Date: 5/2/2007.

EIDL Loan Application Deadline Date: 12/3/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Georgia, dated 3/3/2007 is hereby amended to include the following areas as adversely affected by the disaster:

Primary Counties: Baker, Crawford, Mcduffie, Mitchell, Taylor

Contiguous Counties:

Georgia: Bibb, Calhoun, Colquitt, Columbia, Decatur, Dougherty, Early, Grady, Houston, Jefferson, Lincoln, Miller, Monroe, Peach, Richmond, Talbot, Thomas, Upson, Warren, Wilkes, Worth

All other information in the original declaration remains unchanged.

(Catalog of Federal Domestic Assistance Numbers 59002 and 59008.)

Herbert L. Mitchell,
Associate Administrator for Disaster Assistance.

[FR Doc. E7-4550 Filed 3-12-07; 8:45 am]

BILLING CODE 8025-01-P